DEPARTMENT OF COMMERCE

International Trade Administration

[C-533-876]

Fine Denier Polyester Staple Fiber From the Republic of India: Preliminary Results of Countervailing Duty Administrative Review

AGENCY: Enforcement and Compliance, International Trade Administration, Department of Commerce.

SUMMARY: The Department of Commerce (Commerce) preliminarily determines that Reliance Industries Limited (Reliance), a producer/exporter of fine denier polyester staple fiber (PSF) from the Republic of India (India) received countervailable subsidies during the period of review (POR) November 6, 2017 through December 31, 2018. Interested parties are invited to comment on these preliminary results.

DATES: Applicable April 3, 2020.

FOR FURTHER INFORMATION CONTACT: Thomas Martin or Dakota Potts, AD/CVD Operations, Office IV, Enforcement and Compliance, International Trade Administration, U.S. Department of Commerce, 1401 Constitution Avenue NW, Washington, DC 20230; telephone: (202) 482-3936 or (202) 482-3586, respectively.

SUPPLEMENTARY INFORMATION:

Background

On June 13, 2019, Commerce published a notice of initiation of an administrative review of the countervailing duty order on PSF from India with respect to Reliance.¹ On November 7, 2019, we extended the deadline for these preliminary results to March 31, 2020.² For a complete description of the events that followed the initiation of this review, see the Preliminary Decision Memorandum.³ A list of topics discussed in the Preliminary Decision Memorandum is included as the appendix to this notice. The Preliminary Decision Memorandum is a public document and is on file electronically via Enforcement and Compliance's Antidumping and Countervailing Duty Centralized Electronic System (ACCESS). ACCESS is available to registered users at http://access.trade.gov, and to all parties in the Central Records Unit, Room B8024 of the main Commerce building. In addition, a complete version of the Preliminary Decision Memorandum can be accessed directly at http://enforcement.trade.gov/frn/. The signed and electronic versions of the Preliminary Decision Memorandum are identical in content.

¹ See Initiation of Antidumping and Countervailing Duty Administrative Reviews, 84 FR 27587 (June 13, 2019) (Initiation Notice).

² See Memorandum, “2017-2018 Countervailing Duty Administrative Review of Fine Denier Polyester Staple Fiber from India: Extension of Deadline for Preliminary Results,” dated November 7, 2019.

³ See Memorandum, “Decision Memorandum for Preliminary Results of 2018 Countervailing Duty Administrative Review: Fine Denier Polyester Staple Fiber from India,” dated concurrently with, and hereby adopted by, this notice (Preliminary Decision Memorandum).

Scope of the Order

The merchandise covered by this order is fine denier PSF, not carded or combed, measuring less than 3.3 decitex (3 denier) in diameter. The scope covers all fine denier PSF, whether coated or uncoated. The following products are excluded from the scope:

(1) PSF equal to or greater than 3.3 decitex (more than 3 denier, inclusive) currently classifiable under HTSUS subheadings 5503.20.0045 and 5503.20.0065.

(2) Low-melt PSF defined as a bi-component polyester fiber having a polyester fiber component that melts at a lower temperature than the other polyester fiber component, which is currently classifiable under HTSUS subheading 5503.20.0015.

Fine denier PSF is classifiable under the HTSUS subheading 5503.20.0025. Although the HTSUS subheadings are provided for convenience and customs purposes, the written description of the scope of the order is dispositive.

Methodology

Commerce is conducting this administrative review in accordance with section 751(a)(1)(A) of the Tariff Act of 1930, as amended (the Act). For each subsidy program found to be countervailable, Commerce preliminarily finds that there is a subsidy, i.e., a government-provided financial contribution that gives rise to a benefit to the recipient, and that the subsidy is specific.⁴ For a full description of the methodology underlying our conclusions, see the Preliminary Decision Memorandum.

⁴ See sections 771(5)(B) and (D) of the Act regarding financial contribution; section 771(5)(E) of the Act regarding benefit, and section 771(5A) of the Act regarding specificity.

Preliminary Results of Review

As a result of this review, Commerce preliminarily finds that the net countervailable subsidy rate for the POR regarding Reliance is as follows:

Company | Subsidy rate (ad valorem)
Reliance Industries Limited | 4.26

Assessment Rates

Consistent with section 751(a)(2)(C) of the Act, upon issuance of the final results, Commerce shall determine, and U.S. Customs and Border Protection (CBP) shall assess, countervailing duties on all appropriate entries covered by this review. Commerce intends to issue instructions to CBP 15 days after the date of publication of the final results of this review.

Cash Deposit Requirements

Pursuant to section 751(a)(1) of the Act, Commerce intends to instruct CBP to collect cash deposits of estimated countervailing duties in the amount indicated above with regard to shipments of subject merchandise entered, or withdrawn from warehouse, for consumption on or after the date of publication of the final results of this review. For all non-reviewed firms, Commerce will instruct CBP to continue to collect cash deposits of estimated countervailing duties at the most recent company-specific or all-others rate applicable to the company, as appropriate. These cash deposit instructions, when imposed, shall remain in effect until further notice.

Disclosure and Public Comment

Commerce will disclose to the parties in this proceeding the calculations performed in reaching these preliminary results within five days of the date this notice is published in the Federal Register.⁵ Interested parties may submit written arguments (case briefs) on these preliminary results within 30 days of publication of the preliminary results, and rebuttal arguments (rebuttal briefs) within seven days after the time limit for filing case briefs.⁶ Pursuant to 19 CFR 351.309(d)(2), rebuttal briefs must be limited to issues raised in the case briefs. Parties who submit arguments are requested to submit with their argument: (1) A statement of the issue; (2) a brief summary of the argument; and (3) a table of authorities.⁷ Note that Commerce has temporarily modified certain of its requirements for serving documents containing business proprietary information, until May 19, 2020, unless extended.⁸

⁵ See 19 CFR 351.224(b).

⁶ See 19 CFR 351.309(c); see also 19 CFR 351.309(d); and 351.303 (for general filing requirements).

⁷ See 19 CFR 351.309(c)(2); see also 19 CFR 351.309(d)(2).

⁸ See Temporary Rule Modifying AD/CVD Service Requirements Due to COVID-19, 85 FR 17006 (March 26, 2020).

Interested parties who wish to request a hearing, or to participate if one is requested, must submit a written request within 30 days after the date of publication of this notice.⁹ Requests should contain (1) the party's name, address, and telephone number; (2) the number of participants; and (3) a list of the issues to be discussed. If Commerce receives a request for a hearing, Commerce will inform parties of the schedule date for the hearing, which will be held at the main Commerce building at a time and location to be determined.¹⁰ Parties should confirm by telephone, the date, time, and location of the hearing.

⁹ See 19 CFR 351.310(c).

¹⁰ See 19 CFR 351.310.

Parties are reminded that briefs and hearing requests must be filed electronically using ACCESS and received successfully in their entirety by 5:00 p.m. Eastern Time on the due date.

Unless the deadline is extended pursuant to section 751(a)(3)(A) of the Act, Commerce intends to issue the final results of this administrative review, including the results of Commerce's analysis of the issues raised by parties in their comments, within 120 days after publication of these preliminary results.

Notification to Interested Parties

These preliminary results of review are issued and published in accordance with sections 751(a)(1) and 777(i)(1) of the Act, and 19 CFR 351.213 and 351.221(b)(4).

Dated: March 30, 2020.
Jeffrey I. Kessler,
Assistant Secretary for Enforcement and Compliance.

Appendix—List of Topics Discussed in the Preliminary Decision Memorandum

I. Summary

II. Background

III. Scope of the Order

IV. Period of Review

V. Use of Facts Otherwise Available and Application of Adverse Inferences

VI. Subsidies Valuation Information

VII. Benchmarks and Discount Rates

VIII. Discussion and Analysis of Programs

IX. Recommendation

[FR Doc. 2020-07046 Filed 4-2-20; 8:45 am]

BILLING CODE 3510-DS-P